DEPARTMENT OF COMMERCE

National Oceanic and Atmospheric Administration

RIN 0648-XA101

Council Coordination Committee Meeting

AGENCY: National Marine Fisheries Service (NMFS), National Oceanic and Atmospheric Administration (NOAA), Commerce.

ACTION: Notice of a public meeting.

SUMMARY: NMFS will host a meeting of the Council Coordination Committee (CCC), consisting of the Regional Fishery Management Council chairs, vice chairs, and executive directors in January 2011. The intent of this meeting is to discuss issues of relevance to the Councils, including FY 2011 budget allocations and budget planning, Annual Catch Limits (ACLs), Coastal and Marine Spatial Planning, Recreational Fishery Issues, Enforcement, Catch Shares Policy Implementation, and other topics related to implementation of the Magnuson-Stevens Fishery Conservation and Management Act (Magnuson-Stevens Act).

DATES: The meeting will begin at 9 a.m. on Tuesday, January 11, 2011, recess at 5:30 p.m. or when business is complete; and reconvene at 8:30 a.m. on Wednesday, January 12, 2011, and adjourn by 5 p.m. or when business is complete.

ADDRESSES: The meeting will be held at the Phoenix Park Hotel, 520 North Capitol Street, NW., Washington, DC 20001, telephone 1-800-824-5419, fax 202-638-4025.

FOR FURTHER INFORMATION CONTACT: William D. Chappell: telephone 301-713-2337 or e-mail at William.Chappell@noaa.gov; or Tara Scott: telephone 301-713-2337 or e-mail at Tara.Scott@noaa.gov.

SUPPLEMENTARY INFORMATION: The Magnuson-Stevens Fishery Conservation and Management Reauthorization Act (MSRA) of 2006 established the Council Coordination Committee (CCC) by amending Section 302 (16 U.S.C. 1852) of the Magnuson-Stevens Act. The committee consists of the chairs, vice chairs, and executive directors of each of the eight Regional Fishery Management Councils authorized by the Magnuson-Stevens Act or other Council members or staff. NMFS will host this meeting and provide reports to the CCC for its information and discussion. All sessions are open to the public.

Proposed Agenda

January, 11, 2011

9 a.m. Morning Session Begins.

9-10:30 Welcome comments and Round Robin with Councils.

10:30-10:45 Break.

10:45-11:30 Round Robin with Councils (Continued).

11:30-12 “Managing Our Nation's Fisheries” III Planning.

12 noon-1:30 p.m. Lunch.

1:30 Afternoon Session Begins.

1:30-2:15 Performance Measures.

2:15-3:15 Budget Issues FY11:

• Status, Allocation, Council Grants.

• FY12: Update.

3:15-3:30 Break.

3:30-4:15 Budget Issues (Continued).

4:15-5:15 ACLs and Associated Science Issues.

• National Science ACL Workshop.

• Report of the 2010 National Scientific and Statistical Committees (SSC) Workshop.

• Planning for National SSC Workshop—MAFMC.

• Prioritizing Future Stock assessments to Meet MSRA Requirements.

5:15-5:30 Review of Procedure for Approval of Councils' Standard Operating Policy and Procedures.

5:30 Adjourn for the Day.

Wednesday, January 12, 2011

8:30 a.m. Morning Session Begins.

8:30-9 Communication on Ending Overfishing.

9-9:30 Recreational Fisheries Engagement Strategy.

9:30-10:30 Marine Recreational Information Program (MRIP) Re-estimation Project Update.

10:30-10:45 Break.

10:45-11:30 Coastal and Marine Spatial Planning.

11:30-1 p.m. Lunch.

1-Afternoon Session Begins.

1-2 Catch Shares Policy Implementation.

2-3 Enforcement Issues.

3-3:15 Break.

3:15-4:15 Impacts and Response to Climate Change.

4:15-4:45 May Council Coordination Committee (CCC) Agenda Planning.

4:45-5 Wrap-up.

5 p.m. Adjourn.

The order in which the agenda items are addressed may change. The CCC will meet as late as necessary to complete scheduled business.

Special Accommodations

This meeting is physically accessible to people with disabilities. Requests for sign language interpretation or other auxiliary aids should be directed to Tara Scott at 301-713-2337x177 at least five working days prior to the meeting.

Dated: December 20, 2010.
Emily H. Menashes,
Acting Director, Office of Sustainable Fisheries, National Marine Fisheries Service.

[FR Doc. 2010-32477 Filed 12-23-10; 8:45 am]

BILLING CODE 3510-22-P